NUCLEAR REGULATORY COMMISSION

Proposed Generic Communication; Draft Revision to NRC Inspection Manual Chapter 9900, “Technical Guidance,” Operability Determinations and Resolution of Nonconformances of Structures, Systems, and Components” (“Regulatory Issue Summary 2004-XX”)—(MC2262)

AGENCY: Nuclear Regulatory Commission.

ACTION: Notice of opportunity for public comment and notice of public meeting.

SUMMARY: The U.S. Nuclear Regulatory Commission (NRC) is proposing to issue a Regulatory Issue Summary (RIS) to provide the nuclear power industry with updated staff guidance on operability determinations and resolution of degraded and nonconforming conditions of Structures, Systems, and Components (SSCs). This proposed RIS updates the previous guidance in NRC Inspection Manual Chapter (IMC) 9900, “Technical Guidance,” and endorsed by the NRC in Generic Letter 91-18, “Information to Licensees Regarding Two NRC Inspection Manual Sections on Resolution of Degraded and Nonconforming Conditions and on Operability.” The guidance is being updated to reflect relevant changes in the NRC regulatory process and regulations contained in 10 CFR 50.59, “Changes, Tests, and Experiments,” and 10 CFR 50.65, “Requirements for Monitoring the Effectiveness of Maintenance at Nuclear Power Plants;” and to clarify the guidance for selected issues based on operating experience, and; to consolidate and streamline the guidance in two previously separate NRC IMC 9900 sections.

Earlier guidance on these subjects was provided to the industry in two sections of IMC 9900 as an attachment to GL 91-18, issued on November 7, 1991. An update of guidance on degraded and nonconforming conditions was issued as Revision 1 on October 8, 1997. In addition, on September 13, 2001, the NRC issued for public comment an earlier draft revision of the guidance on degraded and nonconforming conditions. The NRC also held a public workshop on August 14, 2003, as part of the development of the proposed revision. The staff has addressed the comments received in the present revision.

The NRC is seeking comment from interested parties on the clarity and utility of the proposed RIS and the draft updated IMC 9900 guidance, as outlined under the Supplementary Information heading. The NRC will consider the comments received in its final evaluation of the proposed RIS and updated guidance. Comments should address the contents of the guidance but not the associated regulations.

The NRC will hold a public workshop on August 25, 2004, in the Two White Flint North Auditorium at the NRC offices in Rockville, Maryland, at 8:30 a.m.—4:30 p.m., for discussion of the proposed revision to the guidance. Comments provided during this workshop will be considered by the NRC when it finalizes the proposed RIS and IMC guidance. Written comments may also be provided as discussed below.

DATES: The comment period expires 60 days after this notice is published. Comments submitted after this date will be considered if it is practical to do so, but assurance of consideration cannot be given except for comments received on or before this date. Interested parties are also encouraged to provide comments by August 18, 2004, to be discussed during the public workshop on August 25, 2004.

ADDRESSES: Submit written comments to the Chief, Rules and Directives Branch, Division of Administrative Services, Office of Administration, U.S. Nuclear Regulatory Commission, Mail Stop T6-D59, Washington, DC 20555-0001, and cite the publication date and page number of this Federal Register notice. Written comments may also be delivered to NRC Headquarters, 11545 Rockville Pike (Room T-6D59), Rockville, Maryland, between 7:30 a.m. and 4:15 p.m. on Federal workdays.

FOR FURTHER INFORMATION, CONTACT: Kerri Kavanagh at (301) 415-3743 or by e-mail to kak@nrc.gov.

SUPPLEMENTARY INFORMATION: Documents may be examined, and/or copied for a fee, at the NRC's Public Document Room at One White Flint North, 11555 Rockville Pike (first floor), Rockville, Maryland. The NRC's Agencywide Documents Access and Management System (ADAMS) provides text and image files of NRC's public documents. The proposed RIS and the draft updated IMC 9900 guidance are available under ADAMS accession number ML042080035. These documents may be accessed through the NRC's Public Electronic Reading Room (PERR) on the Internet at http://www.nrc.gov/reading-rm/adams.html. If you do not have access to ADAMS or if you have problems in accessing documents in ADAMS, contact the NRC Public Document Room (PDR) reference staff by phone at 1-800-397-4209 or 301-415-4737, by e-mail to pdr@nrc.gov, or by fax to 301-415-3548.

Dated at Rockville, Maryland, this 27th day of July 2004.
For the Nuclear Regulatory Commission.
Terrence Reis,
Acting Chief, Reactor Operations Branch, Division of Inspection Program Management, Office of Nuclear Reactor Regulation.

[FR Doc. 04-17608 Filed 8-2-04; 8:45 am]

BILLING CODE 7590-01-P